DEPARTMENT OF HEALTH AND HUMAN SERVICES

Centers for Disease Control and Prevention

The Health Department Subcommittee (HDS) of the Board of Scientific Counselors (BSC), Centers for Disease Control and Prevention (CDC), National Center for Environmental Health (NCEH)/Agency for Toxic Substances and Disease Registry (ATSDR): Teleconference Meeting

In accordance with section 10(a)(2) of the Federal Advisory Committee Act (Pub. L. 92-463), the CDC, NCEH/ATSDR announces the following teleconference meeting of the aforementioned subcommittee:

Time and Date: 12:30 p.m.-2 p.m., April 23, 2007, Eastern Daylight Saving Time.

Place: Century Center, 1825 Century Boulevard, Atlanta, Georgia 30345.

Status: Open to the public; teleconference access limited only by availability of telephone ports.

Purpose: Under the charge of the BSC, NCEH/ATSDR, the HDS will provide the BSC, NCEH/ATSDR with advice and recommendations on local and State health department issues and concerns that pertain to the mandates and mission of NCEH/ATSDR.

Matters to be Discussed: The meeting will include a review of the agenda; approval of minutes from the last conference call; a review “matrix” for recommendations of workforce issues and science issues; a briefing on issues important to schools; pubic comment and the next steps for the HDS.

Items are subject to change as priorities dictate.

SUPPLEMENTARY INFORMATION: To participate in this teleconference meeting, please dial 877/315-6535 and enter conference code 383520. The public comment period is scheduled from 1:20 p.m.-1:30 p.m. Eastern Daylight Saving Time.

FOR FURTHER INFORMATION CONTACT: Shirley D. Little, Committee Management Specialist, NCEH/ATSDR, CDC, 1600 Clifton Road, Mail Stop E-28, Atlanta, GA 30303; telephone 404/498-0615; fax 404/498-0059; e-mail: slittle@cdc.gov.

The Director, Management Analysis and Services Office, has been delegated the authority to sign Federal Register notices pertaining to announcements of meetings and other committee management activities for both CDC and the Agency for Toxic Substances and Disease Registry.

Dated: March 23, 2007.
Elaine L. Baker,
Acting Director, Management Analysis and Services Office, Centers for Disease Control and Prevention.

[FR Doc. 07-1567 Filed 3-29-07; 8:45 am]

BILLING CODE 4163-18-P